DEPARTMENT OF TRANSPORTATION

Federal Aviation Administration

[Policy Statement No. ANM-03-112-06]

Below Deck Cargo Compartment Smoke Penetration Into Occupied Areas

AGENCY: Federal Aviation Administration (FAA), DOT.

ACTION: Notice of final policy.

SUMMARY: The Federal Aviation Administration (FAA) announces the availability of final policy on smoke penetration tests conducted under the provisions of § 25.857.

DATES: The final policy was issued by the Transport Airplane Directorate on November 4, 2005.

FOR FURTHER INFORMATION CONTACT: Stephen Happenny, Federal Aviation Administration, Transport Airplane Directorate, Transport Standards Propulsion and Mechanical Systems Branch, ANM-112, 1601 Lind Avenue SW., Renton, WA 98055-4056; telephone (425) 227-2147; fax (425) 227-1320; e-mail: stephen.happenny@faa.gov.

SUPPLEMENTARY INFORMATION:

Disposition of Comments

A notice of proposed policy was published in the Federal Register on February 19, 2003 (68 FR 8073). Seven (7) commenters responded to the request for comments.

Background

The final policy further simplifies the certification process pertaining to the acceptable amount of smoke penetration permitted into the cabin during a below deck cargo compartment smoke penetration test. It clarifies the test criteria for the means of compliance addressed in AC 25-9A and supplements that material.

The final policy as well as the disposition of comments received is available on the Internet at the following address: http://www.airweb.faa.gov/rgl. If you do not have access to the Internet, you can obtain a copy of the policy by contacting the person listed under FOR FURTHER INFORMATION CONTACT.

Issued in Renton, Washington, on November 4, 2005.
Ali Bahrami,
Manager, Transport Airplane Directorate, Aircraft Certification Service.

[FR Doc. 05-23016 Filed 11-21-05; 8:45am]

BILLING CODE 4910-13-M